INTERNATIONAL TRADE COMMISSION

[Inv. No. 337-TA-543]

In the Matter of Certain Baseband Processor Chips and Chipsets, Transmitter and Receiver (RADIO) Chips, Power Control Chips, and Products Containing Same, Including Cellular Telephone Handsets; Notice of Commission Decision To Modify the Schedule for Filing Written Submissions on Remedy, the Public Interest, and Bonding, and To Extend the Target Date for Completion of the Investigation

AGENCY: U.S. International Trade Commission.

ACTION: Notice.

SUMMARY: Notice is hereby given that the U.S. International Trade Commission has determined to modify a schedule for filing written submissions on remedy, the public interest, and bonding, and to extend the target date for completion of the above-captioned investigation by thirteen (13) days to March 8, 2007.

FOR FURTHER INFORMATION: Michael Liberman, Esq., Office of the General Counsel, U.S. International Trade Commission, 500 E Street, SW., Washington, DC 20436, telephone 202-205-3152. Copies of the ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On June 21, 2005, the Commission instituted an investigation under section 337 of the Tariff Act of 1930, 19 U.S.C. 1337, based on a complaint filed by Broadcom Corporation of Irvine, California, alleging a violation of section 337 in the importation, sale for importation, and sale within the United States after importation of certain baseband processor chips and chipsets, transmitter and receiver (radio) chips, power control chips, and products containing same, including cellular telephone handsets by reason of infringement of certain claims of U.S. Patent Nos. 6,374,311; 6,714,983; 5,682,379 (“the '379 patent”); 6,359,872 (“the '872 patent”); and 6,583,675. 70 FR 35707 (June 21, 2005). The complainant named Qualcomm Incorporated of San Diego, California as the only respondent. The '379 patent and '872 patent were terminated from this investigation.

On October 19, 2006, the presiding administrative law judge (“ALJ”) issued an Initial Determination on Violation of Section 337 and Recommended Determination on Remedy and Bond (“ID”), finding a violation of section 337. On December 8, 2006, the Commission issued a notice of its decision to review and modify in part the ALJ's final ID. The Commission also requested the parties to the investigation, interested government agencies, and any other interested persons to file written submissions on the issues of remedy, the public interest, and bonding.

On December 11, 2006, the ALJ announced that the public version of the ID will not be available before December 21, 2006. On December 20, the Commission determined to extend by fourteen (14) days the then-existing deadlines for filing the opening and reply submissions on the issues of remedy, the public interest, and bonding. The respective deadlines were set as follows: (1) Written submissions and proposed remedial orders on the issues of remedy, the public interest, and bonding were due no later than close of business on January 5, 2007, and (2) respective reply submissions were due no later than the close of business on January 17, 2007. The Commission also determined to extend the target date for completion of this investigation by fourteen (14) days to February 23, 2007.

On January 3, 2007, the ALJ's office indicated that the public version of the ID at issue will not be available before Monday, January 8, 2007. Accordingly, the Commission has determined to extend by ten (10) days after issuance of the public version of the final ID the existing deadline for filing the opening submissions on the issues of remedy, the public interest, and bonding. The Commission has also determined to extend the existing deadline for filing the respective reply submissions, and the existing target date for completion of this investigation. Thus, the respective deadlines are as follows: (1) Written opening submissions and proposed remedial orders on the issues of remedy, the public interest, and bonding must be filed no later than close of business on January 18, 2007, and (2) respective reply submissions must be filed no later than the close of business on January 25, 2007. The Commission has also determined to extend the target date for completion of this investigation by thirteen (13) days to March 8, 2007.

The authority for the Commission's determination is contained in section 337 of the Tariff Act of 1930, as amended (19 U.S.C. 1337), and in section 210.42(h) of the Commission's Rules of Practice and Procedure (19 CFR 210.42(h)).

By order of the Commission.
Issued: January 4, 2007.
Marilyn R. Abbott,
Secretary to the Commission.

[FR Doc. E7-188 Filed 1-9-07; 8:45 am]

BILLING CODE 7020-02-P